DEPARTMENT OF COMMERCE

National Oceanic and Atmospheric Administration

[RTID 0648-XD355]

Marine Mammals and Endangered Species

AGENCY: National Marine Fisheries Service (NMFS), National Oceanic and Atmospheric Administration (NOAA), Commerce.

ACTION: Notice; issuance of permits, and permit modifications.

SUMMARY: Notice is hereby given that permits and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Shasta McClenahan, Ph.D., (Permit Nos. 26939, 27038, and 27052), Malcolm Mohead (Permit Nos. 27294 and 24016-01), and Courtney Smith, Ph.D. (Permit No. 26623); at (301) 427-8401.

SUPPLEMENTARY INFORMATION: Notices were published in the Federal Register on the dates listed below that requests for a permit or permit modification had been submitted by the below-named applicants. To locate the Federal Register notice that announced our receipt of the application and a complete description of the activities, go to https://www.federalregister.gov and search on the permit number provided in Table 1 below.

Table 1—Issued Permits and Permit Modifications
Permit No. | RTID | Applicant | Previous Federal Register notice | Issuance date
26623 | 0648-XC926 | Erin Ashe, Ph.D., Oceans Initiative, 117 East Louisa Street No. 135, Seattle, WA 98102 | 88 FR 23645, April 18, 2023 | August 7, 2023.
26939 | 0648-XC969 | NMFS Northeast Fisheries Science Center, 166 Water Street, Woods Hole, MA 02543 (Responsible Party: Jon Hare, Ph.D.) | 88 FR 27451, May 2, 2023 | August 28, 2023.
27038 | 0648-XC735 | Center for Whale Research, 355 Smuggler's Cove Road, Friday Harbor, WA 98250 (Responsible Party: Michael Weiss, Ph.D.) | 88 FR 7078, February 2, 2023 | August 15, 2023.
27052 | 0648-XC804 | NMFS Northwest Fisheries Science Center, 2725 Montlake Boulevard East, Seattle, WA 98112 (Responsible Party: M. Bradley Hanson, Ph.D.) | 88 FR 13100, March 2, 2023 | August 25, 2023.
27294 | 0648-XC922 | Nicole Phillips, Ph.D., The University of Southern Mississippi, 118 College Drive No. 5018, Hattiesburg, MS 39406 | 88 FR 24597, April 21, 2023 | July 11, 2023.
24016-01 | 0648-XC967 | Jason Kahn, Ph.D., National Marine Fisheries Service, 1315 East-West Highway, Silver Spring, MD 20910 | 88 FR 26523, May 1, 2023 | August 17, 2023.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: September 11, 2023.
Julia M. Harrison,
Chief, Permits and Conservation Division, Office of Protected Resources, National Marine Fisheries Service.

[FR Doc. 2023-19876 Filed 9-13-23; 8:45 am]

BILLING CODE 3510-22-P